DEPARTMENT OF TRANSPORTATION

Federal Aviation Administration

14 CFR Part 39

[Docket No. FAA-2022-0988; Project Identifier MCAI-2021-00438-R; Amendment 39-22217; AD 2022-22-02]

RIN 2120-AA64

Airworthiness Directives; Airbus Helicopters

AGENCY: Federal Aviation Administration (FAA), DOT.

ACTION: Final rule.

SUMMARY: The FAA is adopting a new airworthiness directive (AD) for Airbus Helicopters Model SA-365N, SA-365N1, AS-365N2, AS 365 N3, EC 155B, and EC155B1 helicopters. This AD was prompted by reports of the cockpit doors failing to open after ditching with inflated floats on certain helicopters equipped with an emergency flotation system (EFS). This AD requires revising the existing Rotorcraft Flight Manual (RFM) for your helicopter, installing placards, and depending on your model helicopter, modification of the jettisoning system, as specified in a European Union Aviation Safety Agency (EASA) AD, which is incorporated by reference (IBR). The FAA is issuing this AD to address the unsafe condition on these products.

DATES: This AD is effective December 21, 2022.

The Director of the Federal Register approved the incorporation by reference of a certain publication listed in this AD as of December 21, 2022.

ADDRESSES:

AD Docket: You may examine the AD docket at regulations.gov under Docket No. FAA-2022-0988; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For service information identified in this final rule, contact EASA, Konrad-Adenauer-Ufer 3, 50668 Cologne, Germany; telephone +49 221 8999 000; email ADs@easa.europa.eu; internet easa.europa.eu. You may find the EASA material on the EASA website at ad.easa.europa.eu.

• You may view this service information at the FAA, Office of the Regional Counsel, Southwest Region, 10101 Hillwood Pkwy., Room 6N-321, Fort Worth, TX 76177. For information on the availability of this material at the FAA, call (817) 222-5110. It is also available at regulations.gov under Docket No. FAA-2022-0988.

Other Related Service Information: For Airbus Helicopters service information identified in this final rule, contact Airbus Helicopters, 2701 North Forum Drive, Grand Prairie, TX 75052, United States; phone: (972) 641-0000 or (800) 232-0323; fax (972) 641-3775; email: customersupport.helicopters@airbus.com; website: airbus.com/helicopters/services/technical-support.html.

FOR FURTHER INFORMATION CONTACT: Darren Gassetto, Aerospace Engineer, COS Program Management Section, Operational Safety Branch, Compliance & Airworthiness Division, FAA, 1600 Stewart Ave., Suite 410, Westbury, NY 11590; telephone (516) 228-7323; email OperationalSafety@faa.gov.

SUPPLEMENTARY INFORMATION:

Background

EASA, which is the Technical Agent for the Member States of the European Union, has issued a series of ADs, with the most recent being EASA AD 2021-0101R1, dated February 25, 2022 (EASA AD 2021-0101R1), to correct an unsafe condition for Airbus Helicopters (AH), formerly Eurocopter, Eurocopter France, Aerospatiale, Sud Aviation, Model SA 365 N, SA 365 N1, AS 365 N2, AS 365 N3, EC 155 B, and EC 155 B1 helicopters.

The FAA issued a notice of proposed rulemaking (NPRM) to amend 14 CFR part 39 by adding an AD that would apply to all Airbus Helicopters Model SA-365N, SA-365N1, AS-365N2, AS 365 N3, EC 155B, and EC155B1 helicopters. The NPRM published in the Federal Register on August 12, 2022 (87 FR 49773). The NPRM was prompted by reports of failure of the cockpit doors to open after ditching with inflated floats on certain helicopters equipped with an EFS. EASA advises emergency evacuation was only possible by jettisoning the hinged doors from the inside or by accessing the emergency exits in the cabin. EASA further advises that the passage from the cockpit to the cabin may be impaired on helicopters with certain interior layouts. The NPRM proposed to require revising the existing RFM for your helicopter, installing placards, and depending on your model helicopter, modification of the jettisoning system, as specified in EASA AD 2021-0101R1.

The FAA is issuing this AD to inform external rescuers that the cockpit door jettison function needs to be utilized to successfully egress incapacitated flight crew from the cockpit during an emergency when the EFS is activated. See EASA AD 2021-0101R1 for additional background information.

Discussion of Final Airworthiness Directive

Comments

The FAA received no comments on the NPRM or on the determination of the costs.

Conclusion

These helicopters have been approved by EASA and are approved for operation in the United States. Pursuant to the FAA's bilateral agreement with the European Union, EASA has notified the FAA of the unsafe condition described in the EASA AD referenced above. The FAA reviewed the relevant data and determined that air safety requires adopting this AD as proposed. Accordingly, the FAA is issuing this AD to address the unsafe condition on these helicopters. This AD is adopted as proposed in the NPRM.

Related Service Information Under 1 CFR Part 51

EASA AD 2021-0101R1 requires amending the RFM; installing placards on the left-hand (LH) and right-hand (RH) side of the helicopter; and for certain helicopters, modifying the jettison system by installing an external handle on the jettison system of the pilot and co-pilot doors.

This material is reasonably available because the interested parties have access to it through their normal course of business or by the means identified in the ADDRESSES section.

Other Related Service Information

The FAA reviewed Airbus Helicopters Alert Service Bulletin (ASB) No. AS365-52.00.27, Revision 1, dated June 4, 2021 (AS365-52.00.27, Rev 1), which specifies procedures for installing labels (placards) on the pilot and co-pilot doors. AS365-52.00.27, Rev 1, also specifies procedures for installing an external handle on the jettison system.

The FAA also reviewed Airbus Helicopters ASB No. AS365-52.00.29, Revision 1, dated February 9, 2022, ASB No. AS365-52.00.29, Revision 0, dated February 10, 2021, and ASB No. EC155-52A033, Revision 0, dated September 30, 2020. This service information specifies procedures for installing labels (placards) on the pilot and co-pilot doors.

The FAA also reviewed Airbus Helicopters Flight Manual (FM) SA 365 N Supplement, SUP.10.4, Normal Revision (NR) 7, date code 20-40; Airbus Helicopters FM SA 365 N1 Supplement, SUP.10.4, NR 9, date code 20-40; Airbus Helicopters FM AS 365 N2 Supplement, SUP.14, NR 6, date code 20-40; Airbus Helicopters FM AS 365 N3 Supplement, SUP.14, NR 12, date code 20-28; Airbus Helicopters FM EC 155 B Supplement, SUP.14, NR 7, date code 20-11; and Airbus Helicopters FM EC 155 B1 Supplement, SUP.14, NR 8, date code 20-11. This service information provides updated procedures for ditching and emergency evacuation.

Differences Between This AD and the EASA AD

EASA AD 2021-0101R1 allows using Airbus Helicopters ASB No. AS365-52.00.27, original issue, dated November 17, 2020 (including Erratum to ASB AS365-52.00.27, original issue, dated January 21, 2021); whereas this AD does not. This AD requires using AS365-52.00.27, Rev 1 instead. Where paragraph (2) of EASA AD 2021-0101R1 specifies to “modify the helicopter in accordance with the instructions of Section 3 of the applicable ASB,” this AD requires using the instructions of Section 3.B. of the applicable ASB.

EASA AD 2021-0101R1 requires operators to “inform all flight crews” of revisions to the RFM, and thereafter to “operate the helicopter accordingly.” However, this AD does not specifically require those actions. FAA regulations mandate compliance with only the operating limitations section of the flight manual. The flight manual changes required by this AD would apply to the emergency procedures and normal procedures sections of the existing RFM for your helicopter. Furthermore, compliance with such requirements in an AD is impracticable to demonstrate or track on an ongoing basis; therefore, a requirement to operate the aircraft in such a manner is unenforceable. Nonetheless, the FAA recommends that flight crews of the helicopters listed in the applicability operate in accordance with the revised emergency procedures and normal procedures specified by this AD.

This AD allows the owner/operator (pilot) holding at least a private pilot certificate to revise the existing RFM for your helicopter and do the logbook entry, whereas EASA AD 2021-0101R1 does not specify this. This AD requires these actions to be entered into the aircraft records showing compliance with this AD in accordance with 14 CFR 43.9(a) and 14 CFR 91.417(a)(2)(v). The record must be maintained as required by 14 CFR 91.417, 121.380, or 135.439.

For certain helicopters, this AD requires revising section 4.1, Normal Procedures, of the existing RFM for your helicopter to add a check to the RH and LH Cockpit Door Jettison Handles, whereas EASA AD 2021-0101R1 does not require that action.

Costs of Compliance

The FAA estimates that this AD affects 40 helicopters of U.S. Registry. Labor rates are estimated at $85 per work-hour. Based on these numbers, the FAA estimates the following costs to comply with this AD.

Revising the existing RFM for your helicopter takes about 0.25 work-hour for an estimated cost of $21 per helicopter and $840 for the U.S. fleet.

Installing placards on the pilot and co-pilot doors takes about 1 work-hour and parts cost up to about $138 for an estimated cost of up to $223 per helicopter.

For helicopters with the Airbus Helicopters Forward Looking InfraRed (AH FLIR) system installed, installing placards on the pilot and co-pilot doors takes about 0.5 work-hour and parts cost about $52 for an estimated cost of $95 per helicopter.

If required, installing an external handle on the jettison system takes about 7 work-hours and parts cost about $1,328 for an estimated cost of $1,923 per helicopter and $51,921 for the U.S. fleet (27 helicopters).

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-22-02 Airbus Helicopters: Amendment 39-22217; Docket No. FAA-2022-0988; Project Identifier MCAI-2021-00438-R.

(a) Effective Date

This airworthiness directive (AD) is effective December 21, 2022.

(b) Affected ADs

None.

(c) Applicability

This AD applies to all Airbus Helicopters Model SA-365N, SA-365N1, AS-365N2, AS 365 N3, EC 155B, and EC155B1 helicopters, certificated in any category.

(d) Subject

Joint Aircraft Service Component (JASC) Codes: 1100, Placards and Markings; and 5210, Passenger/Crew Doors.

(e) Unsafe Condition

This AD was prompted by reports of failure of the cockpit doors to open after ditching with inflated floats on certain helicopters equipped with an emergency flotation system (EFS). The FAA is issuing this AD to inform external rescuers that the cockpit door jettison function needs to be utilized to successfully egress incapacitated flight crew from the cockpit during an emergency when the EFS is activated. This unsafe condition, if not addressed, could result in incapacitated occupants not being able to exit the helicopter after an emergency ditching with inflated floats.

(f) Compliance

Comply with this AD within the compliance times specified, unless already done.

(g) Requirements

Except as specified in paragraph (h) of this AD: Comply with all required actions and compliance times specified in, and in accordance with, European Union Aviation Safety Agency (EASA) AD 2021-0101R1, dated February 25, 2022 (EASA AD 2021-0101R1) and paragraph (i) of this AD.

(h) Exceptions to EASA AD 2021-0101R1

(1) Where EASA AD 2021-0101R1 refers to effective dates “11 February 2021 [the effective date of EASA AD 2021-0041]” and “26 April 2021 [the effective date of the original issue of this AD],” this AD requires using the effective date of this AD.

(2) Where paragraph (1) of EASA AD 2021-0101R1 specifies to “inform all flight crews and, thereafter, operate the helicopter accordingly,” this AD does not require those actions.

(3) The action required by paragraph (1) of EASA AD 2021-0101R1 may be performed by the owner/operator (pilot) holding at least a private pilot certificate, and must be entered into the aircraft records showing compliance with this AD in accordance with 14 CFR 43.9(a) and 14 CFR 91.417(a)(2)(v). The record must be maintained as required by 14 CFR 91.417, 121.380, or 135.439.

(4) Where paragraph (2) of EASA AD 2021-0101R1 specifies to “modify the helicopter in accordance with the instructions of Section 3 of the applicable ASB,” for this AD, replace that text with, “modify the helicopter in accordance with Section 3.B. in the Accomplishment Instructions of the applicable ASB.”

(5) Where EASA AD 2021-0101R1 refers to “ASB AS365-52.00.27” and “AH ASB AS365-52.00.27 original issue dated 17 November 2020 (including Erratum to ASB AS365-52.00.27 original issue dated 21 January 2021),” this AD requires replacing each instance of that text with “Airbus Helicopters Alert Service Bulletin No. AS365-52.00.27, Revision 1, dated June 4, 2021.”

(6) Where the service information referenced in paragraph (2) of EASA AD 2021-0101R1 specifies discarding parts, this AD requires removing those parts from service.

(7) Where the service information referenced in paragraph (2) of EASA AD 2021-0101R1 specifies to use tooling, this AD allows the use of equivalent tooling.

(8) Where the service information referenced in paragraph (2) of EASA AD 2021-0101R1 specifies parking the helicopter in a hangar or maintenance hangar, this AD does not require those actions.

(9) This AD does not mandate compliance with the “Remarks” section of EASA AD 2021-0101R1.

(i) Required Rotorcraft Flight Manual (RFM) Amendment

(1) For Group 2 helicopters as defined in EASA AD 2021-0101R1, concurrently with accomplishing the actions specified in paragraph (1) of EASA AD 2021-0101R1, revise the existing RFM for your helicopter by adding the following text at the end of section 4.1, Normal Procedures: “right and left hand Cockpit Door Jettison Handles are properly closed and secured.”

(2) The action required by paragraph (i)(1) of this AD may be performed by the owner/operator (pilot) holding at least a private pilot certificate, and must be entered into the aircraft records showing compliance with this AD in accordance with 14 CFR 43.9(a) and 14 CFR 91.417(a)(2)(v). The record must be maintained as required by 14 CFR 91.417, 121.380, or 135.439.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Additional Information

For more information about this AD, contact Darren Gassetto, Aerospace Engineer, COS Program Management Section, Operational Safety Branch, Compliance & Airworthiness Division, FAA, 1600 Stewart Ave., Suite 410, Westbury, NY 11590; telephone (516) 228-7323; email OperationalSafety@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0101R1, dated February 25, 2022.

(ii) [Reserved]

(3) For EASA AD 2021-0101R1, contact EASA, Konrad-Adenauer-Ufer 3, 50668 Cologne, Germany; telephone +49 221 8999 000; email ADs@easa.europa.eu; internet easa.europa.eu. You may find the EASA material on the EASA website at ad.easa.europa.eu.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on October 12, 2022.
Christina Underwood,
Acting Director, Compliance & Airworthiness Division, Aircraft Certification Service.

[FR Doc. 2022-24876 Filed 11-15-22; 8:45 am]

BILLING CODE 4910-13-P